SUSQUEHANNA RIVER BASIN COMMISSION

Public Hearing

AGENCY: Susquehanna River Basin Commission.

ACTION: Notice.

SUMMARY: The Susquehanna River Basin Commission will hold a public hearing on November 2, 2023. The Commission will hold this hearing in person and telephonically. At this public hearing, the Commission will hear testimony on the projects listed in the SUPPLEMENTARY INFORMATION section of this notice. Such projects are intended to be scheduled for Commission action at its next business meeting, tentatively scheduled for December 14, 2023, which will be noticed separately. The public should note that this public hearing will be the only opportunity to offer oral comments to the Commission for the listed projects. The deadline for the submission of written comments is November 13, 2023.

DATES: The public hearing will convene on November 2, 2023, at 6:30 p.m. The public hearing will end at 9 p.m. or at the conclusion of public testimony, whichever is earlier. The deadline for submitting written comments is Monday, November 13, 2023.

ADDRESSES: This public hearing will be conducted in person and virtually. You may attend in person at Susquehanna River Basin Commission, 4423 N Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.gov. Information concerning the project applications is available at the Commission's Water Application and Approval Viewer at https://www.srbc.net/waav. Additional supporting documents are available to inspect and copy in accordance with the Commission's Access to Records Policy at www.srbc.gov/regulatory/policies-guidance/docs/access-to-records-policy-2009-02.pdf.

SUPPLEMENTARY INFORMATION: The public hearing will cover the following projects:

Projects Scheduled for Action

1. Project Sponsor and Facility: Appalachian Utilities, Inc., Pine Creek Township, Clinton County, Pa. Applications for groundwater withdrawals (30-day averages) of up to 0.576 mgd from Well 5 and 0.381 mgd from Well 6.

2. Project Sponsor: Aqua Pennsylvania, Inc. Project Facility: Eagle Rock Utilities System, North Union Township, Schuylkill County, Pa. Application for groundwater withdrawal of up to 0.216 mgd (30-day average) from Well ER-7.

3. Project Sponsor and Facility: Conyngham/Sugarloaf Joint Municipal Authority, Conyngham Borough, Luzerne County, Pa. Applications for renewal of groundwater withdrawals (30-day averages) of up to 0.023 mgd from Well 1, 0.051 mgd from Well 3, and 0.216 mgd from Well 7 (Docket No. 20070301).

4. Project Sponsor and Facility: Eagles Crossing, Inc. (Conodoguinet Creek), North Middleton and Lower Frankford Townships, Cumberland County, Pa. Applications for renewal of surface water withdrawal of up to 0.249 mgd (peak day) and consumptive use of up to 0.249 mgd (30-day average) (Docket No. 19981207).

5. Project Sponsor and Facility: EQT ARO LLC (Pine Creek), Watson Township, Lycoming County, Pa. Application for renewal of surface water withdrawal of up to 0.720 mgd (peak day) (Docket No. 20181202).

6. Project Sponsor and Facility: Hummel Station, LLC (Susquehanna River), Shamokin Dam Borough and Monroe Township, Snyder County, Pa. Applications for renewal of surface water withdrawal of up to 10.000 mgd (peak day) and consumptive use of up to 6.500 mgd (peak day) (Docket No. 20081222).

7. Project Sponsor: KBK-HR Associates, LLC. Project Facility: Honey Run Golf Club, Dover Township, York County, Pa. Applications for renewal of surface water withdrawals (peak day) of up to 0.382 mgd from Honey Run and 0.350 mgd from Little Conewago Creek, and consumptive use of up to 0.200 mgd (30-day average) (Docket Nos. 20081215, 20081216, and 20081217).

8. Project Sponsor and Facility: Keystone Landfill, Inc., Dunmore Borough, Lackawanna County, Pa. Application for renewal of consumptive use of up to 0.360 mgd (peak day) (Docket No. 20080611).

9. Project Sponsor and Facility: Koppers Inc., Clinton Township, Lycoming County, Pa. Application for renewal of consumptive use of up to 0.040 mgd (peak day) (Docket No. 19880204).

10. Project Sponsor: Lucky Bear, LLC. Project Facility: Liberty Forge Golf Course (Yellow Breeches Creek), Lower and Upper Allen Townships, Cumberland County, Pa. Applications for renewal of surface water withdrawal of up to 0.432 mgd (peak day) and consumptive use of up to 0.375 mgd (peak day) (Docket No. 19980906).

11. Project Sponsor and Facility: Newport Borough Water Authority, Howe Township, Perry County, Pa. Applications for renewal of groundwater withdrawals (30-day averages) of up to 0.037 mgd from Well 10 and 0.050 mgd from Well 14 (Docket Nos. 19920506 and 19920706).

12. Project Sponsor and Facility: Nicholas Meat, LLC, Greene Township, Clinton County, Pa. Applications for groundwater withdrawals (30-day averages) of up to 0.288 mgd from Well WS-1, 0.173 mgd from Well WS-3, and 0.144 mgd from Well WS-4.

13. Project Sponsor and Facility: Pennsylvania General Energy Company, L.L.C. (Loyalsock Creek), Plunketts Creek Township, Lycoming County, Pa. Modification to intake location and design for the surface water withdrawal (Docket No. 20200312).

14. Project Sponsor and Facility: Repsol Oil & Gas USA, LLC (Seeley Creek), Wells Township, Bradford County, Pa. Application for renewal of surface water withdrawal of up to 0.750 mgd (peak day) (Docket No. 20181207).

15. Project Sponsor and Facility: Repsol Oil & Gas USA, LLC (Wyalusing Creek), Stevens Township, Bradford County, Pa. Application for renewal of surface water withdrawal of up to 1.500 mgd (peak day) (Docket No. 20181208).

16. Project Sponsor and Facility: Seneca Resources Company, LLC (Cowanesque River), Nelson Township, Tioga County, Pa. Application for renewal of surface water withdrawal of up to 0.533 mgd (peak day) (Docket No. 20181210).

17. Project Sponsor and Facility: Seneca Resources Company, LLC (Cowanesque River), Westfield Township, Tioga County, Pa. Application for renewal of surface water withdrawal of up to 0.400 mgd (peak day) (Docket No. 20181211).

18. Project Sponsor and Facility: Stewartstown Borough Authority, Stewartstown Borough, York County, Pa. Application for renewal of groundwater withdrawal of up to 0.044 mgd (30-day average) from Well 6 (Docket No. 19930903).

19. Project Sponsor and Facility: Village of Sidney, Town of Unadilla, Otsego County, N.Y. Applications for groundwater withdrawals (30-day averages) of up to 0.999 mgd from Well PW-2 and 0.999 mgd from Well PW-3.

20. Project Sponsor and Facility: Walker Township Water Association, Inc, Walker Township, Centre County, Pa. Application for renewal of groundwater withdrawal of up to 0.523 mgd (30-day average) from Snydertown Well 3 (Docket No. 20070905).

Opportunity To Appear and Comment

Interested parties may call into the hearing to offer comments to the Commission on any business listed above required to be the subject of a public hearing. Given the nature of the meeting, the Commission strongly encourages those members of the public wishing to provide oral comments to pre-register with the Commission by emailing Jason Oyler at joyler@srbc.gov before the hearing date. The presiding officer reserves the right to limit oral statements in the interest of time and to control the course of the hearing otherwise. Access to the hearing via telephone will begin at 6:15 p.m. Guidelines for the public hearing are posted on the Commission's website, www.srbc.gov, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.gov/meeting-comment/default.aspx?type=2&cat=7. Comments mailed or electronically submitted must be received by the Commission on or before Monday, November 13, 2023, to be considered.

Authority: Pub. L. 91-575, 84 Stat. 1509 et seq., 18 CFR parts 806, 807, and 808.

Dated: October 10, 2023.
Jason E. Oyler,
General Counsel and Secretary to the Commission.

[FR Doc. 2023-22720 Filed 10-13-23; 8:45 am]

BILLING CODE 7040-01-P